DEPARTMENT OF COMMERCE

International Trade Administration

United States Travel and Tourism Advisory Board

AGENCY: International Trade Administration, U.S. Department of Commerce.

ACTION: Notice of the postponement of an open meeting.

SUMMARY: To provide additional information regarding a Federal Register notice published November 14, 2005, Volume 70, Number 218, regarding the United States Travel and Tourism Advisory Board (“Board”) intent to hold a meeting on December 1, 2005, in New Orleans, Louisiana, to discuss topics related to the travel and tourism industry. The meeting has been postponed and will be rescheduled.

Date: TBA.

Time: TBA.

Address: TBA.

FOR FURTHER INFORMATION CONTACT: J. Marc Chittum, U.S. Travel and Tourism Advisory Board, Room 4043, 1401 Constitution Avenue, NW., Washington, DC 20230, telephone 202-482-1124, Marc.Chittum@mail.doc.gov.

Dated: November 21, 2005.
J. Marc Chittum,
Designated Federal Officer, U.S. Travel and Tourism Advisory Board.

[FR Doc. 05-23422 Filed 11-23-05; 1:03 pm]

BILLING CODE 3510-DR-P